DEPARTMENT OF ENERGY

[GDO Docket No. EA-380-A]

Application for Renewal of Authorization To Export Electric Energy; Freepoint Commodities LLC

AGENCY: Grid Deployment Office, Department of Energy.

ACTION: Notice of application.

SUMMARY: Freepoint Commodities LLC (the Applicant or Freepoint) has applied for authorization to transmit electric energy from the United States to Canada pursuant to the Federal Power Act.

DATES: Comments, protests, or motions to intervene must be submitted on or before April 17, 2023.

ADDRESSES: Comments, protests, motions to intervene, or requests for more information should be addressed by electronic mail to Electricity.Exports@hq.doe.gov.

FOR FURTHER INFORMATION CONTACT: Steven Blazek, (240) 474-2780, electricity.exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On June 13, 2022, the authority to issue such orders was delegated to the DOE's Grid Deployment Office (GDO) under Delegation Order No. S1-DEL-S3-2022-2 and Redelegation Order No. S3-DEL-GD1-2022.

On September 29, 2011, in Order No. EA-380, the DOE authorized Freepoint to export electricity from the United State to Canada as a power marketer for a period of ten years ending on September 29, 2021. On September 30, 2022, Freepoint filed an application with DOE (Application or App) for renewal of their export authority for an additional ten-year term. App. at 1.

Freepoint acknowledged in its Application that it did not seek to renew its authorization to export electricity to Canada prior to the lapse of the authorization granted in Order No. EA-380. Since the expiration of that authorization, as indicated in its quarterly filings with the Department (which it continued to file, notwithstanding the expiration of the authorization), Freepoint has not exported any electricity from the United States. Freepoint seeks renewal of its authorization at this time because it anticipates entering one or more transactions that could involve exports of electricity to Canada. App at 1-2.

In its Application, the Applicant states that it “does not own or control any electric generation or transmission facilities, nor does it hold a franchise or service territory for the transmission, distribution, or sale of electric power.” App at 3. Freepoint further states that it “has purchased, or will purchase, the power that may be exported to Canada from wholesale generators, electric utilities, federal power marketing agencies, and the markets administered by independent system operators (ISOs) and regional transmission organizations (RTOs).” Id.

Freepoint “plans to export electric power over authorized transmission interconnections between Canada and the United States. Transmission to the point of delivery will be arranged by Freepoint over any authorized existing international electric transmission facilities (including those set out in Attachment 1), and over any international transmission facilities that may be approved by the Department in the future.” App at 4.

Therefore, “Freepoint's export of electric energy to Canada does not and will not impair the sufficiency of electric supply within the United States nor does it or will it impede or tend to impede the coordination in the public interest of facilities subject to the jurisdiction of the Federal Energy Regulatory Commission (FERC).” App at 2.

The existing international transmission facilities to be utilized by the Applicant have been previously authorized by Presidential permits issued pursuant to Executive Order 10485, as amended, and are appropriate for open access transmission by third parties. See App at 4; Attachment 1.

Procedural Matters: Any person desiring to be heard in this proceeding should file a comment or protest to the Application at the address provided above. Protests should be filed in accordance with Rule 211 of FERC's Rules of Practice and Procedure (18 CFR 385.211). Any person desiring to become a party to this proceeding should file a motion to intervene at the above address in accordance with FERC Rule 214 (18 CFR 385.214).

Comments and other filings concerning Freepoint's Application should be clearly marked with GDO Docket No. EA-380-A. Additional copies are to be provided directly to Martin Ramirez, Head of Compliance, Freepoint Commodities, LLC, 58 Commerce Road, Stamford, CT 06902; (203) 542-6767; MRamirez@freepoint.com and Daniel E. Frank, Eversheds Sutherland (US) LLP, 700 Sixth St. NW, Suite 700, Washington, DC 20001-3980; (202) 383-0838; DanielFrank@eversheds-sutherland.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications or by emailing Electricity.Exports@hq.doe.gov.

Signing Authority: This document of the Department of Energy was signed on March 13, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 14, 2023.
Treena V. Garrett,
Federal Register Liaison Officer, U.S. Department of Energy.

[FR Doc. 2023-05466 Filed 3-16-23; 8:45 am]

BILLING CODE 6450-01-P